DEPARTMENT OF COMMERCE

Economic Development Administration

[Docket No. 991215337-0047-02]

RIN 0610-ZA13

National Technical Assistance, Training, Research, and Evaluation—Request for Grant Proposals

AGENCY: Economic Development Administration (EDA), Department of Commerce (DoC).

ACTION: Request for Grant Proposals (RFP) Upon Availability of Funds.

SUMMARY: A total of $360,550,000 is available to EDA for all its programs in FY 2000, of which approximately $500,000 will be available for National Technical Assistance, Training, Research, and Evaluation. EDA is soliciting proposals to describe and critically analyze the role of EDA in efforts to alleviate domestic economic distress through programs funded under the Public Works and Economic Development Act of 1965, as amended. This project will be funded if acceptable proposals are received. EDA issues this Notice to describe the conditions under which an eligible application for this National Technical Assistance, Training, Research, and Evaluation project under 13 CFR part 307, subpart C (64 FR 5347, 5428-5429; 64 FR 69868, 69878-69879) will be accepted and selected for funding.

DATES: Proposals for funding under this program will be accepted through April 14, 2000, at the address provided below. Proposals received after 5:00 p.m. EDT, on April 14, 2000, will not be considered for funding.

By April 21, 2000, EDA will advise the successful proponent to submit a full application. OMB has assigned application forms Control Number 0610-0094.

A completed application must be submitted to EDA by May 8, 2000, at the address below. EDA anticipates that this project will be funded about June 15, 2000.

ADDRESSES: Send proposals to John J. McNamee, Director, Research and National Technical Assistance Division, Economic Development Administration, Room 7019, U.S. Department of Commerce, Washington, DC 20230.

FOR FURTHER INFORMATION CONTACT: John J. McNamee (202) 482-4085.

SUPPLEMENTARY INFORMATION:

I. Areas of Special Emphasis

• Impact of Programs Funded under the Public Works and Economic Development Act of 1965.

EDA invites proposals to describe and critically analyze the role of EDA in efforts to alleviate domestic economic distress since 1965.

Background: In the Public Works and Economic Development Act of 1965 (PWEDA) (Pub.L. 89-136), Congress declared that maintaining the national economy at a high level was vital to the best interests of the United States, that some areas suffered substantial and persistent unemployment and underemployment, and that the Federal Government, in cooperation with the States, should help such areas take effective steps in planning and financing their public works and economic development. To carry out this mandate, Congress authorized the establishment of the Economic Development Administration (EDA). Since 1965, PWEDA has been reauthorized on several occasions, most recently under the Economic Development Administration Reform Act of 1998 (Pub.L. 105-393). Overall funding levels have varied throughout the years.

As part of its ongoing mission to assist economically distressed areas, EDA periodically revisits the role of the Federal Government in economic development. The agency also undertakes periodic independent evaluations of its specific programs. However, in the 35 years since its inception, EDA has never documented in a single place the history of PWEDA and EDA activities as important federal policies. Given the large scale of public investment in this area, there is an important public interest in documenting these policies and determining the extent to which EDA has developed and implemented programs that respond to the actual economic development needs of the nation's distressed communities. In issuing this request for proposals, EDA hopes to document the agency's policies, examine how the policy focus of EDA has evolved over time in response to changing economic conditions, and identify emerging policy issues in economic development that the agency and economic development practitioners (including other governmental entities) must be responsive to now and in the future. The agency also hopes to examine, critically, changes in EDA's (and PWEDA's) role in overall federal economic development efforts.

Scope of Work: The successful applicant will, for the period since 1965:

(1) Describe the context of EDA's economic development efforts, possibly including (but not necessarily restricted to):

A. the level, location, and character of distress throughout the United States;

B. changing national and regional economic conditions;

C. the legislative history of PWEDA;

D. policies towards economic development and EDA of each administration, including the proposed presidential budget submissions for EDA; and

E. the level and type of Congressional support, including funding levels appropriated and special initiatives funded by Congress, such as the Local Public Works Program (1976-1977).

(2) describe the evolution of EDA activities and policies, including (but not necessarily limited to):

A. the type, level and impact of EDA's investments;

B. the agency's funding priorities, program design, forms of assistance, regulations and other economic development policies; and

C. the agency's administrative policies, including organizational structure, staffing levels, and methods of oversight and evaluation.

(3) analyze critically how the changes in the context of economic development and EDA policies described in Tasks 1 and 2 above have affected the agency's ability to fulfill its mission under PWEDA, and the future impact these changes may have on the agency and on economic development in general;

(4) prepare and submit 200 copies of a report and an electronic version of the report (in formats acceptable to EDA) that document the research and findings of Tasks 1, 2, and 3 above;

(5) conduct up to three briefings for individuals and organizations interested in the results of this project. Specific locations and dates of the briefings are at EDA's discretion.

EDA anticipates that the successful applicant will rely heavily on secondary data, including past EDA program evaluations and policy documents, other federal documents, and general economic development literature. To the extent feasible, current EDA staff will be available to assist in collection of necessary data that are not available elsewhere.

Cost: The total EDA share of the cost of this project many not exceed $125,000.

Timing: The project must be completed and the final project report submitted by December 31, 2000. Potential applicants should be aware that this completion date is for completion of the project and submission of the final written report documenting the research and findings. Briefings (workshops) will take place no later than one year after submission of the final report.

II. How To Apply

A. Eligible Applicants

See EDA's interim final rule and final rule at 13 CFR 300.2 (64 FR 5347, 5352; 64 FR 69868). Eligible applicants are as follows: institutions of higher education, consortiums of institutions of higher education; public or private nonprofit organizations or associations acting in cooperation with officials of a political subdivision of a state, for-profit organizations, and private individuals; areas meeting requirements under 13 CFR 301.2; Economic Development Districts; Indian tribes; consortiums of Indian Tribes; states, cities or other political subdivisions of a state; consortiums of political subdivisions of states.

B. Proposal Submission Procedures

Proposals submitted should include: (1) A description of how the researcher(s) intend(s) to carry out the scope of work (not to exceed 10 pages in length); (2) a proposed budget and accompanying explanation; (3) resumes/qualifications of key staff (not to exceed two pages per individual or organization), and (4) a proposed time line for completion of the project. EDA will not accept proposals submitted by FAX or E-mail. Proposals received after 5:00 p.m. EDT on April 14, 2000, will not be considered.

III. Selection Process and Evaluation Criteria

All proposals must meet EDA's statutory and regulatory requirements. Proposals will receive initial review by EDA to assure that they meet all requirements of this announcement and EDA's interim final rule and final rule at 13 CFR Chapter III (64 FR 5347, 5357; 64 FR 69868, 69874), including eligibility and relevance to the specified project as described herein. EDA's general selection process and criteria are set out in 13 CFR 304.1, 304.2, (64 FR 5347, 5357; 64 FR 68968, 68974-69875), and current § 307.10 (§ 307.8 in the interim rule) (64 FR 5347, 5429; 64 FR 69868, 69878). Proposals that meet these requirements will then be evaluated by a review panel composed of at least three members using the following criteria:

• The quality of a proposal's response to the scope of work proposed; and

• The ability of the prospective applicant to successfully carry out the proposed activities.

• If a proposal is selected, EDA will provide the proponent with an Application for Federal Assistance (OMB Control Number 0610-0094). Notwithstanding any other provision of law, no person is required to respond to nor shall a person be subject to a penalty for failure to comply with a collection of information subject to the requirements of the Paperwork Reduction Act unless that collection of information displays a currently valid OMB Control Number.

IV. Additional Information and Requirements

A. Authority

The Public Works and Economic Development Act of 1965, as amended (Pub. L. 89-136, 42 U.S.C. 3121 et seq.), including the comprehensive amendments by the Economic Development Administration Reform Act of 1998 (Pub.L. 105-393) (PWEDA) authorizes EDA to make grants for training, research, and technical assistance, including grants for program evaluation and project impact analyses, that would be useful in alleviating or preventing conditions of excessive unemployment or underemployment (42 U.S.C. 3147, section 207). This RFP is dependent upon the availability of funds in FY 2000 for this program. Public Law 106-113 makes funds available for this program.

B. Catalog of Federal Domestic Assistance

11.312 Research and Evaluation

C. Program Description

For a description of this program see PWEDA and 13 CFR Chapter III, Part 307 (64 FR 5347; 64 FR 69868).

EDA assistance is focused on areas experiencing significant economic distress, defined principally as per capita income of 80 percent or less of the national average, or an unemployment rate that is, for the most recent 24-month period for which data are available, at least one percent greater than the national average, or a special need, as determined by EDA.

D. Costs

Ordinarily, the applicant is expected to provide a 50 percent non-federal share of project costs. However, the Assistant Secretary may waive the required 50 percent matching share of the total project costs, provided the applicant can demonstrate: (1) The project is not feasible without, and the project merits such a waiver, or (2) the project is addressing major causes of distress in the area serviced and requires the unique characteristics of the applicant, which will not participate if it must provide all or part of a 50 percent non-federal share, or (3) the project is for the benefit of local, state, regional, or national economic development efforts, and will be of no or only incidental benefit to the recipient (See 13 CFR 307.11; 64 FR 69878).

E. Briefings and Reports

This award includes a requirement that the applicant conduct a total of up to three briefings and/or training workshops for individuals and organizations interested in the results of this project. Potential applicants should be aware that the completion dates set forth above are for completion of the project and submission of the final written report. Briefings/workshops will take place no later than one year after submission of the final report. Locations and dates of the briefings/workshops are at EDA's discretion. Usually, these consist of at least one briefing in Washington, DC, with the other briefings held in conjunction with EDA's regional conferences.

This award includes a requirement that the applicant submit an electronic version and 200 hard copies of the final report in formats acceptable to EDA.

F. Website

See 65 FR 3763-3769, Part III for additional information and requirements (available on the Internet at http://www.doc.gov/eda/html/notice.htm, under the heading “Economic Development Assistance Programs—Availability of Funds Under the Public Works and Economic Development Act of 1965 and Trade Act of 1974; Notice”).

Dated: March 8, 2000.
Chester J. Straub, Jr.,
Acting Assistant Secretary for Economic Development.

[FR Doc. 00-6319 Filed 3-14-00; 8:45 am]

BILLING CODE 3510-24-P